DEPARTMENT OF THE TREASURY

12 CFR Chapter XV, 31 CFR Subtitles A and B

[TREAS-DO-2025-0037]

RIN 1505-ZA10

GENIUS Act Implementation

AGENCY: Department of the Treasury.

ACTION: Advance notice of proposed rulemaking; extension of comment period.

SUMMARY: The Department of the Treasury (Treasury) is extending by 15 days the comment period on its advance notice of proposed rulemaking (ANPRM) soliciting public comment on questions relating to the implementation of the Guiding and Establishing National Innovation for U.S. Stablecoins (GENIUS) Act. The comment period will now close on November 4, 2025.

DATES: The comment period for the proposed rule published September 19, 2025, at 90 FR 45159, is extended. Comments on the ANPRM must be received on or before November 4, 2025.

ADDRESSES: Written comments may be submitted through one of two methods:

• Electronic Submission: Comments may be submitted electronically through the Federal Government eRulemaking portal at https://www.regulations.gov.

• Mail: Send to U.S. Department of the Treasury, Attention: Office of General Counsel, 1500 Pennsylvania Avenue NW, Washington, DC 20220.

We encourage comments to be submitted via https://www.regulations.gov. All comments should be captioned with “GENIUS Act Implementation Comments.” Please include your name, organizational affiliation, address, email address, and telephone number in your comment. All comments received, including attachments and other supporting materials, will be part of the public record and subject to public disclosure. Do not submit any information in your comment or supporting materials that you consider confidential or inappropriate for public disclosure.

FOR FURTHER INFORMATION CONTACT: Shane Shannon, Counselor to the General Counsel; Christina Lee, Senior Counsel; Degi Altantuya, Frank Colleluori, Brendan Costello, Matan Neuman, Carol Rodrigues, and David Wertime, Attorney-Advisors, Office of the General Counsel, OGC_GeniusAct@Treasury.gov, 202-622-0480, Department of the Treasury, 1500 Pennsylvania Ave. NW, Washington, DC 20220.

SUPPLEMENTARY INFORMATION: On September 19, 2025, Treasury published in the Federal Register the ANPRM to solicit public comment on questions relating to the implementation of the GENIUS Act. 90 FR 45159. Comments on the ANPRM were originally due on October 20, 2025.

Treasury has received a number of requests to extend the comment period to allow interested parties additional time to review and comment on the ANPRM. Treasury is therefore extending the comment period on the ANPRM by 15 days, to November 4, 2025.

Rachel Miller,
Executive Secretary, U.S. Department of the Treasury.

[FR Doc. 2025-19093 Filed 9-30-25; 8:45 am]

BILLING CODE 4810-AK-P